DEPARTMENT OF LABOR

Employment and Training Administration

Public Meeting of the Advisory Committee on Apprenticeship (ACA)

AGENCY: Employment and Training Administration, Labor.

ACTION: Notice of an open ACA meeting.

SUMMARY: Pursuant to section 10 of the Federal Advisory Committee Act (Pub. L. 92-463; 5 U.S.C. APP. 1), notice is hereby given of an open meeting of the Advisory Committee on Apprenticeship (ACA).

Time and Date: The meeting will begin at approximately 8:30 a.m. on Monday, May 16th, and continue until approximately 5 p.m. The meeting will reconvene at approximately 8:30 a.m. on Tuesday, May 17th, and continue until approximately 4 p.m. The final meeting day will begin at approximately 8:30 a.m. on Wednesday, May 18th, and adjourn at 12 noon.

Place: Hilton Crystal City, 2399 Jefferson Davis Highway, Arlington, Virginia 22202, (703) 418-6800.

The agenda is subject to change due to time constraints and priority items which may come before the Committee between the time of this publication and the scheduled date of the ACA meeting.

FOR FURTHER INFORMATION CONTACT: Mr. Anthony Swoope, Administrator, Office of Apprenticeship Training, Employer and Labor Services, Employment and Training Administration, U.S. Department of Labor, Room N-5311, 200 Constitution Avenue, NW., Washington, DC 20210; telephone (202) 693-2796 (this is not a toll-free number).

Matters To Be Considered: The agenda will focus on the following topics:

• Committee Orientation;

• Advisory Committee Procedures and Ethics;

• Demand Driven Workforce Solutions; and

• 21st Century Apprenticeship

Status: Members of the public are invited to attend the proceedings. Individuals with disabilities should contact Marion Winters at (202) 693-3786 no later than May 10, 2005, if special accommodations are needed.

Any member of the public who wishes to file written data or comments pertaining to the agenda may do so by sending them to Mr. Anthony Swoope, Administrator, Office of Apprenticeship Training, Employer and Labor Services, Employment and Training Administration, U.S. Department of Labor, Room N-5311, 200 Constitution Avenue, NW., Washington, DC 20210. Such submissions should be sent by May 10, 2005, to be included in the record for the meeting.

Any member of the public who wishes to speak at the meeting should indicate the nature of the intended presentation and the amount of time needed by furnishing a written statement to the Designated Federal Official, Mr. Anthony Swoope, by May 9, 2005. The Chairperson will announce at the beginning of the meeting the extent to which time will permit the granting of such requests.

Signed at Washington, DC, this 18th day of April, 2005.
Emily Stover DeRocco,
Assistant Secretary for Employment and Training.

[FR Doc. E5-1950 Filed 4-22-05; 8:45 am]

BILLING CODE 4510-30-P